DEPARTMENT OF ENERGY

Federal Energy Regulatory Commission

[Docket Nos. CP04-379-000; CP04-380-000; and CP04-381-000]

Pine Prairie Energy Center, LLP; Notice of Application

July 23, 2004.

On July 16, 2004, Pine Prairie Energy Center, LLP (Pine Prairie), an affiliate of Sempra Energy, 12 Avery Place, Westport, CT, 06880 filed an application in Docket No. CP04-379-000, pursuant to section 7(c) of the Natural Gas Act (NGA) to construct, install, own, operate, and maintain a new high-deliverability, salt-dome storage facility and interconnecting pipelines, located in Evangeline Parish Louisiana. Pine Prairie also requests blanket certificates under parts 157 and 284 of the Federal Energy Regulatory Commission's (Commission) Rules and Regulations (Docket Nos. CP04-381-000 and CP04-380-000 respectively) and for authorization to provide open-access firm and interruptible natural gas storage services at market based rates. Pine Prairie's storage project will provide a total storage capacity of 24 Bcf of natural gas and a deliverability of 2.4 Bcf/day.

This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659. Questions concerning this Application may be directed to James F. Bowe, Jr., Dewey Ballantine LLP, 1775 Pennsylvania Avenue, NW., Washington, DC 20006-4605, 202-429-1444 (phone)/202-429-1579 (fax).

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's web site under the “e-Filing” link. The Commission strongly encourages electronic filings.

Comment Date: August 18, 2004.

Linda Mitry,
Acting Secretary.

[FR Doc. E4-1679 Filed 7-29-04; 8:45 am]

BILLING CODE 6717-01-P